CONSUMER PRODUCT SAFETY COMMISSION

[CPSC Docket No. CPSC-2012-0008]

CPSC Symposium on Phthalates Screening and Testing Methods

AGENCY: Consumer Product Safety Commission.

ACTION: Notice.

SUMMARY: The Consumer Product Safety Commission (“CPSC,” “Commission,” or “we”) is announcing its intent to hold a symposium on phthalates screening and testing methods. The symposium will be held at the CPSC's National Product Testing and Evaluation Center in Rockville, Maryland, on March 1, 2012. We invite interested parties to participate in or attend the symposium and to submit comments.

DATES: The symposium will be held from 10 a.m. to 3 p.m. on March 1, 2012. Individuals interested in serving on panels or presenting information at the symposium should register by February 9, 2012; all other individuals who wish to attend the symposium should register by February 24, 2012. Comments must be received by February 27, 2012.

ADDRESSES: The symposium will be held at the CPSC's National Product Testing and Evaluation Center, 5 Research Place, Rockville, Maryland 20850. There is no charge to attend the symposium. Persons interested in serving on a panel, presenting information, or attending the symposium should register online at: http://www.cpsc.gov/meetingsignup.html, and click on the link titled, “Phthalates Testing Symposium.” More information about the symposium will be posted at www.cpsc.gov/about/cpsia/phthalatestest.html.

You may submit comments, identified by Docket No. CPSC-2012-0008, by any of the following methods:

Electronic Submissions

Submit electronic comments in the following way:

Federal eRulemaking Portal: http://www.regulations.gov. Follow the instructions for submitting comments.

To ensure timely processing of comments, the Commission is no longer accepting comments submitted by electronic mail (email) except through: http://www.regulations.gov.

Written Submissions

Submit written submissions in the following way:

Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information electronically. Such information should be submitted in writing.

Docket: For access to the docket to read background documents or comments received, go to: http://www.regulations.gov.

FOR FURTHER INFORMATION CONTACT: Matthew Dreyfus, Ph.D., Directorate for Laboratory Sciences, 5 Research Place, Rockville, MD 20850, (301) 987-2094, mdreyfus@cpsc.gov.

SUPPLEMENTARY INFORMATION:

I. What does the law require?

Section 108 of the Consumer Product Safety Improvement Act of 2008 (CPSIA) (Pub. L. 110-314) permanently prohibits the sale of any “children's toy or child care article” containing more than 0.1 percent of each of three specified phthalates: di-(2-ethylhexyl) phthalate (DEHP), dibutyl phthalate (DBP), and benzyl butyl phthalate (BBP). Section 108 of the CPSIA also prohibits on an interim basis, the sale of any “children's toy that can be placed in a child's mouth” or “child care article” containing more than 0.1 percent of each of three additional phthalates: diisononyl phthalate (DINP), diisodecyl phthalate (DIDP), and di-n-octyl phthalate (DNOP).

Section 14(a)(2) of the Consumer Product Safety Act (CPSA) (15 U.S.C. 2063(a)(2)) establishes testing requirements for children's products that are subject to a children's product safety rule. (Section 3(a)(2) of the CPSA (15 U.S.C. 2052(a)(2)) defines a “children's product” as a consumer product designed or intended primarily for children 12 and younger.) Section 14(a)(2)(A) of the CPSA also states that, before a children's product that is subject to a children's product safety rule is imported for consumption or warehousing or distributed in commerce, the manufacturer or private labeler of such children's product must submit sufficient samples of the children's product, “or samples that are identical in all material respects to the product,” to an accredited “third party conformity assessment body” to be tested for compliance with the children's product safety rule. Based on such testing, the manufacturer or private labeler, under section 14(a)(2)(B) of the CPSA, must issue a certificate that certifies that such children's product complied with the children's product safety rule based on the assessment of a third party conformity assessment body accredited and CPSC-approved to perform such tests.

In the Federal Register of August 10, 2011 (76 FR 49286), we published a notice of requirements establishing the accreditation criteria for third party conformity assessment bodies to assess conformity with the limits on phthalates in children's toys and child care articles. The notice of requirements described the test methods that third party conformity assessment bodies should use when testing for phthalates. In brief, the test methods identified in the notice of requirements are:

• CPSC-CH-C1001-09.3, Standard Operating Procedure for Determination of Phthalates, issued on April 1, 2010. This test method can be downloaded from the CPSC Web site at: http://www.cpsc.gov/about/cpsia/CPSC-CH-C1001-09.3.pdf; and/or

• GB/T 22048-2008, Toys and Children's Products—Determination of Phthalate Plasticizers in Polyvinyl Chloride Plastic, issued on June 16, 2008. Information about this method is available at: http://220.194.5.109/stdlinfo/servlet/com.sac.sacQuery.GjbzcxDetailServlet?std_code=GB/T%2022048-2008.

Thus, third party conformity assessment bodies use either of the two test methods identified immediately above when they test children's toys and child care articles for compliance with the phthalates limits.

II. What do we hope the symposium will accomplish?

The CPSIA's phthalate restrictions, coupled with the testing and certification requirements in the CPSA, have created certain challenges for manufacturers, retailers, and third party conformity assessment bodies (more commonly known as “testing laboratories”). Therefore, we intend to hold the first CPSC Symposium on Phthalates Screening and Testing Methods on March 1, 2012, at our National Product Testing and Evaluation Center, located at 5 Research Place, Rockville, Maryland 20850. The symposium will run from 10 a.m. to 3 p.m.

Our goal is to review available and emerging technologies for detecting phthalates and to stimulate discussion of technological needs to improve testing methods. We intend to ensure that the advantages and limitations of screening and testing methods are discussed. We plan to use a combination of technical presentations and discussion panels to explore these issues at the symposium.

III. What topics will be addressed at the symposium?

We plan to cover the following topics:

• Methods for increased quality control, from the manufacturing process to testing a final product;

• Available chemical analysis instrumentation and techniques, including infrared spectroscopy (FTIR), Thermal Desorption, Direct Analysis Real Time Mass Spectrometry (DART-MS), and Gas Chromatography/Mass Spectrometry (GC/MS);

• Advantages and limitations of available technology; and

• Emerging organic chemical detection and quantification technologies.

We will prepare a detailed agenda based on scheduled presenters and expected attendance, and we will make the agenda available on our Web site at: www.cpsc.gov/about/cpsia/phthalatetestagenda.pdf.

IV. Details Regarding the Symposium

A. When and where will the symposium be held?

The symposium will be held from 10 a.m. to 3 p.m. on March 1, 2012, at the CPSC's National Product Testing and Evaluation Center, 5 Research Place, Rockville, Maryland 20850.

B. How do you register for the symposium?

If you would like to make a presentation at the symposium or to be considered as a panel member for a specific topic or topics, you should register by February 9, 2012. (See the ADDRESSES portion of this document for the Web site link and instructions on where to register.) We also ask that you indicate whether you would like to serve on a panel or make a presentation, and indicate the topic(s) for which you wish to be considered. We ask that you limit the number of topics to no more than three. We will select panelists and individuals who will make presentations at the symposium, based on considerations such as the individual's familiarity or expertise with the topic to be discussed; the practical utility of the information to be presented (such as a discussion of specific methods), and the individual's viewpoint or ability to represent certain interests (such as large manufacturers, small manufacturers, consumer organizations).

In addition, please inform Dr. Matthew Dreyfus, mdreyfus@cpsc.gov, (301) 987-2094 of any special equipment needs required to make a presentation. While an effort will be made to accommodate all persons who wish to make a presentation, the time allotted for presentations will depend on the number of persons who wish to speak on a given topic and the agenda. We recommend that individuals and organizations with common interests consolidate or coordinate their presentations and request time for a joint presentation. If you wish to make a presentation and want to make copies of your presentation or other handouts available, you should bring copies to the symposium. We will notify those who are selected to make a presentation or participate in a session or panel at least two weeks before the symposium. Selections will be made in attempt to ensure that a wide variety of interests are represented.

If you do not wish to make a presentation, we ask that you register by February 24, 2012. Please be aware that seating will be on a first-come, first-served basis. If you are unable to attend the symposium, it will be available through a webcast, but you may not be able to interact with the panels and presenters.

If you need special accommodations because of disability, please contact Dr. Matthew Dreyfus, mdreyfus@cpsc.gov, (301) 987-2094 at least 10 days before the symposium.

In addition, we encourage written or electronic comments to the docket. Written or electronic comments will be accepted until February 27, 2012. Please note that all comments should be restricted to the topics covered by the symposium.

C. What happens if few people register for the symposium?

If fewer than 15 individuals register for the symposium, we may cancel the symposium. If we decide to cancel the symposium, we will post a cancellation notice by February 23, 2012, on the Web page for the symposium insert web address and send an email to all registered participants who provide their email address when they register.

Dated: January 25, 2012.
Todd A. Stevenson,
Secretary, Consumer Product Safety Commission.

[FR Doc. 2012-1931 Filed 1-27-12; 8:45 am]

BILLING CODE 6355-01-P